DEPARTMENT OF LABOR

Occupational Safety and Health Administration

Federal Advisory Council on Occupational Safety and Health: Notice of Meeting

Notice is hereby given of the date and location of the next meeting of the Federal Advisory Council on Occupational Safety and Health (FACOSH), established under Section 1-5 of Executive Order 12196 on February 6, 1980, published in the Federal Register, February 27, 1980 (45 FR 1279).

FACOSH will meet on April 12, 2005 starting at 1:30 p.m., in Room N-3437 A/B/C of the Department of Labor Frances Perkins Building, 200 Constitution Avenue, NW., Washington, DC 20210. The meeting will adjourn at approximately 4:30 p.m., and will be open to the public. Anyone wishing to attend this meeting must exhibit photo identification to security personnel upon entering the building.

Agenda items will include:

1. Call to Order

2. Old Business

a. Federal Recordkeeping Change

b. SHARE Initiative

c. Field Safety and Health Council Awards Ceremony and Training Conference

d. Federal Agency Training Week

e. VPP/Partnerships

f. Seatbelt Safety

3. New Business

4. Adjournment

Written data, views, or comments may be submitted, preferably with 20 copies, to the Office of Federal Agency Programs at the address provided below. All such submissions received by April 5, 2005 will be provided to the Federal Advisory Council members and included in the meeting record.

Anyone wishing to make an oral presentation should notify the Office of Federal Agency Programs by the close of business on April 7, 2005. The request should state the amount of time desired, the capacity in which the person will appear, and a brief outline of the presentation's content. Those who request the opportunity to address the Federal Advisory Council may be allowed to speak, as time permits, at the discretion of the Chairperson. Individuals with disabilities who need special accommodations and wish to attend the meeting should contact Diane Brayden at the address indicated below.

For additional information, please contact Diane Brayden, Director, Office of Federal Agency Programs, U.S. Department of Labor, Occupational Safety and Health Administration, Room N-3622, 200 Constitution Avenue, NW., Washington, DC 20210, telephone number (202) 693-2187. An official record of the meeting will be available for public inspection at the Office of Federal Agency Programs.

Signed at Washington, DC, this 18th day of March 2005.
Jonathan L. Snare,
Acting Assistant Secretary of Labor for Occupational Safety and Health.

[FR Doc. 05-5804 Filed 3-23-05; 8:45 am]

BILLING CODE 4510-26-P